AGENCY FOR INTERNATIONAL DEVELOPMENT

Board for International Food and Agricultural Development: One Hundred and Thirty Sixth Meeting; Notice of Meeting

Pursuant to the Federal Advisory Committee Act, notice is hereby given of the one hundred and thirty-sixth meeting of the Board for International Food and Agricultural Development (BIFAD). The meeting will be held from 8 a.m. to 1 p.m. on January 6, 2003 in the ground floor meeting room of the National Association of State Universities & Land Grant Colleges (NASULGC), at 1307 New York Avenue, NW., Washington, DC.

The program will be devoted to a discussion of a humanitarian compact for developing countries, a progress report on the previous meeting's long-term training agenda item, and further USAID reports on the status of agricultural or rural livelihoods and the involvement of universities.

The meeting is free and open to the public. Those wishing to attend the meeting or obtain additional information about BIFAD should contact Mr. Lawrence Paulson, the Designated Federal Officer for BIFAD. Write him in care of the U.S. Agency for International Development, Ronald Reagan Building, Office of Agriculture and Food Security, 1300 Pennsylvania Avenue, NW., Room 2.11-073, Washington DC 20523-2100 or telephone him at (202) 712-1436 or fax (202) 216-3010.

Lawrence Paulson,
USAID Designated Federal Officer for BIFAD, Office of Agriculture and Food Security, Bureau of Economic Growth, Agriculture & Trade.

[FR Doc. 02-30816 Filed 12-4-02; 8:45 am]

BILLING CODE 6116-01-M